FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, with revision, the Report of Selected Money Market Rates (FR 2420; OMB No. 7100-0357).

DATES: Comments must be submitted on or before November 29, 2024.

ADDRESSES: You may submit comments, identified by FR 2420, by any of the following methods:

• Agency Website: https://www.federalreserve.gov/. Follow the instructions for submitting comments at https://www.federalreserve.gov/apps/foia/proposedregs.aspx.

• Email: regs.comments@federalreserve.gov. Include the OMB number or FR number in the subject line of the message.

• Fax: (202) 452-3819 or (202) 452-3102.

• Mail: Federal Reserve Board of Governors, Attn: Ann E. Misback, Secretary of the Board, Mailstop M-4775, 2001 C St. NW, Washington, DC 20551.

All public comments are available from the Board's website at https://www.federalreserve.gov/apps/foia/proposedregs.aspx as submitted, unless modified for technical reasons or to remove personally identifiable information at the commenter's request. Accordingly, comments will not be edited to remove any confidential business information, identifying information, or contact information. Public comments may also be viewed electronically or in paper in Room M-4365A, 2001 C St. NW, Washington, DC 20551, between 9:00 a.m. and 5:00 p.m. on weekdays, except for Federal holidays. For security reasons, the Board requires that visitors make an appointment to inspect comments. You may do so by calling (202) 452-3684. Upon arrival, visitors will be required to present valid government-issued photo identification and to submit to security screening in order to inspect and photocopy comments.

Additionally, commenters may send a copy of their comments to the Office of Management and Budget (OMB) Desk Officer for the Federal Reserve Board, Office of Information and Regulatory Affairs, Office of Management and Budget, New Executive Office Building, Room 10235, 725 17th Street NW, Washington, DC 20503, or by fax to (202) 395-6974.

FOR FURTHER INFORMATION CONTACT: Federal Reserve Board Clearance Officer—Nuha Elmaghrabi—Office of the Chief Data Officer, Board of Governors of the Federal Reserve System, nuha.elmaghrabi@frb.gov, (202) 452-3884.

SUPPLEMENTARY INFORMATION: On June 15, 1984, OMB delegated to the Board authority under the Paperwork Reduction Act (PRA) to approve and assign OMB control numbers to collections of information conducted or sponsored by the Board. In exercising this delegated authority, the Board is directed to take every reasonable step to solicit comment. In determining whether to approve a collection of information, the Board will consider all comments received from the public and other agencies.

During the comment period for this proposal, a copy of the proposed PRA OMB submission, including the draft reporting form and instructions, supporting statement (which contains more detail about the information collection and burden estimates than this notice), and other documentation, will be made available on the Board's public website at https://www.federalreserve.gov/apps/reportingforms/review or may be requested from the agency clearance officer, whose name appears above. On the page displayed at the link above, you can find the supporting information by referencing the collection identifier, FR 2420. Final versions of these documents will be made available at https://www.reginfo.gov/public/do/PRAMain, if approved.

Request for Comment on Information Collection Proposal

The Board invites public comment on the following information collection, which is being reviewed under authority delegated by the OMB under the PRA. Comments are invited on the following:

a. Whether the proposed collection of information is necessary for the proper performance of the Board's functions, including whether the information has practical utility;

b. The accuracy of the Board's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal Under OMB Delegated Authority To Extend for Three Years, With Revision, the Following Information Collection

Collection title: Report of Selected Money Market Rates.

Collection identifier: FR 2420.

OMB control number: 7100-0357.

General description of collection: The FR 2420 is a transaction-based report that collects daily liability data on federal funds purchased, selected borrowings from non-exempt entities, Eurodollar transactions, and time deposits and certificates of deposits from (1) domestically chartered commercial banks and savings associations that have $18 billion or more in total assets as well as those that have total assets above $5 billion but less than $18 billion and meet the activity threshold, (2) U.S. branches and agencies of foreign banks with total third-party assets of $2.5 billion or more, and (3) significant banking organizations that are active participants in money markets. The FR 2420 also collects daily data on Eurodollar transactions from International Banking Facilities (IBFs) of the above-referenced institutions. The FR 2420 data are used in the publication of the Effective Federal Funds Rate and Overnight Bank Funding Rate and in analysis of current money market conditions.

Proposed revisions: The Board proposes to add several fields to the FR 2420 reporting form, with supporting information added to the FR 2420 instructions, to enhance money market monitoring. The Board proposes to add Part E to the reporting form to collect information on depository institutions' secured borrowings via Federal Home Loan Banks (FHLBs) advances with 1 year or less to maturity at origination. An additional proposed section of the reporting form, Part F, serves to collect information on rates paid by depository institutions for certain non-maturity demand deposits by FHLBs. The Board proposes the addition of one new item in Part C of the reporting form that would denote whether reported time deposits represent brokered transactions. The proposed FR 2420 revisions would be effective 12 months after the publication of a final notice in the Federal Register, with an approximate January 2026 as of date.

The proposed additions to the FR 2420 align with the Board's monetary policy mandate. The proposed additions enhance the Federal Reserve's ability to monitor bank funding and money markets, especially under changing conditions.

Domestic banks that are FHLB members rely upon FHLB advances, which are loans secured by collateral, as a key source of funding. Short-term advances with maturities under one year are a widely used alternative to the other wholesale money market sources that are already subject to FR 2420 reporting. The Federal Reserve currently lacks the ability to monitor advance borrowings by all banks subject to FR 2420 reporting with data on the interest rates paid on advances or on dollar volumes of borrowings at a higher frequency than quarterly. In addition, the Federal Reserve currently lacks the ability to monitor volumes and rates for FHLBs' interest-bearing deposits. These deposits represent a significant dollar volume as compared to the other unsecured funding types currently subject to FR 2420 data collection.

Reporting Form Revisions

The Board proposes to add items to the FR 2420 reporting form to collect information on brokered deposits, short-term FHLB advances, and interest-bearing non-maturity deposits placed by FHLBs.

The Board proposes to add a field to the existing Part C of FR 2420 to denote which reported time deposits represent brokered transactions.

The proposed Part E of the reporting form concerns FHLB advances with an original maturity of one year or less. The reporting form fields in Part E would be similar to other data for term instruments reported on the FR 2420. Specifically, covered institutions would be required to report the dollar amount, origination date, settlement date, maturity date, interest rate, day-count convention, the interest rate adjusted for estimated FHLB dividends, whether the advance is fixed- or floating-rate, whether the advance is amortizing, and whether there are embedded options. For floating-rate advances, the spread, reference rate, and reset period would be required. Respondents would report on each business day their outstanding FHLB advances with an original maturity of one year or less.

The proposed Part F of the reporting form concerns interest-bearing demand deposits from FHLBs. The proposed additional reporting form fields in Part F include the dollar amount (i.e., account balance), trade date, interest rate, and day-count convention, reported for each business day.

Instruction Revisions

Proposed instruction changes provide guidance to covered institutions on how to report the proposed items pertaining to brokered deposits, FHLB advances, and deposits by FHLBs. Specific reporting instruction sections are included for FHLB advances and demand deposits by FHLBs, and related definitions are added to the glossary.

Proposed additional instructions for time deposits in Part C include directions to specify a pre-set value for whether a time deposit transaction is brokered or not. Brokered deposits follow the existing definition in the FR 2420 glossary. In addition, references to London Interbank Offered Rate (LIBOR) among reference rates in Part C are removed in the proposed revisions, as the production of U.S. dollar LIBOR will have ceased by the proposed implementation date for the revisions.

The instructions regarding FHLB advances in Part E are generally consistent with those for other parts of the FR 2420. For FHLB advances with under one year to maturity at origination, respondents are directed to report the dollar amount of the advance, date on which the advance is originated, date on which funds settle, interest rate, interest rate adjusted for estimated FHLB dividends received by the institution, interest-rate spread for floating-rate advances, and maturity date of the advance. The instructions specify pre-set values for the interest rate's day-count convention, whether the interest rate is fixed or floating, reset period for floating-rate advances, reference rate used for floating-rate advances, whether the advance is amortizing or non-amortizing, and any embedded options in the advance. Institutions are directed to report outstanding advances each business day.

The instructions pertaining to the proposed Part F specify that only interest-bearing demand deposits by FHLBs should be reported. The term “demand deposits” is defined in the glossary. Instructions are provided directing institutions to report the dollar amount (i.e., end-of-day account balance in dollars), trade date, interest rate, and day-count convention for each business day.

Frequency: Daily.

Respondents: Commercial banks, savings associations, U.S. branches and agencies of foreign banks, IBFs, and significant banking organizations representing entities actively participating in the federal funds and/or other money markets.

Total estimated number of respondents: 277.

Total estimated change in burden: 14,000.

Total estimated annual burden hours: 133,825.

Board of Governors of the Federal Reserve System, September 25, 2024.
Benjamin W. McDonough,
Deputy Secretary and Ombuds of the Board.

[FR Doc. 2024-22324 Filed 9-27-24; 8:45 am]

BILLING CODE 6210-01-P